DEPARTMENT OF THE INTERIOR

National Park Service

Notice of meeting

AGENCY: National Park Service, U.S. Department of the Interior.

ACTION: Notice of Meeting.

SUMMARY: Notice is hereby given in accordance with the Federal Advisory Commission Act and 36 CFR Part 65 that a meeting of the Landmarks Committee of the National Park System Advisory Board will be held beginning at 1 p.m. on April 11, 2006, at the location listed below. The meeting will continue beginning at 9 a.m. on April 12.

DATES: April 11-12, 2006.

Location: The 2nd Floor Board Room of the National Trust for Historic Preservation, 1785 Massachusetts Avenue, NW., Washington, DC 20036.

FOR FURTHER INFORMATION CONTACT: Patricia Henry, National Historic Landmarks Program, National Park Service; 1849 C Street, NW., (2280); Washington, DC 20240; Telephone (202) 354-2216.

SUPPLEMENTARY INFORMATION: The purpose of this meeting of the Landmarks Committee of the National Park System Advisory Board is to evaluate nominations of historic properties in order to advise the National Park System Advisory Board as to the qualifications of those properties for National Historic Landmark (NHL) designation. If the Landmarks Committee finds that a nominated property meets criteria for designation as an NHL, it will recommend designation to the National Park System Advisory Board at the Board's meeting in June 2006. The Committee also makes recommendations to the National Park System Advisory Board regarding amendments to existing designations and proposals for withdrawal of designation. The members of the National Landmarks Committee are:

Mr. Larry E. Rivers, Ph.D., Chair

Mr. James M. Allan, Ph.D.

Mr. Cary Carson, Ph.D.

Ms. Mary Werner DeNadai, FAIA

Ms. Alferdteen Brown Harrison, Ph.D.

Mr. E. L. Roy Hunt, J.D., Professor Emeritus

Mr. Ronald James

Mr. William J. Murtagh, Ph.D.

Mr. William D. Seale, Ph.D.

Ms. Jo Anne Van Tilburg, Ph.D.

The meeting will be open to the public. Pursuant to 36 CFR Part 65, any member of the public may file for consideration by the National Park System Advisory Board and its Landmarks Committee written comments concerning the National Historic Landmarks nominations, amendments to existing designations, or proposals for withdrawal of designation.

Comments should be submitted to John W. Roberts, Acting Chief, National Historic Landmarks Program, National Park Service; 1849 C Street, NW. (2280); Washington, DC 20240.

The National Park System Advisory Board and its Landmarks Committee will consider the following nominations:

Nominations:

California

• Borax Lake, Clear Lake, CA

• Eames House (Case Study House # 8), Los Angeles, CA

Connecticut

• Coltsville Historic District, Hartford, CT

Florida

• Marjorie Kinnan Rawlings House, Cross Creek, FL

• Mud Lake Canal, Flamingo, FL

Georgia

• Dorchester Academy Boy's Dormitory, Midway, GA

Massachusetts

• John and Priscilla Alden Family Sites, Duxbury, MA

Missouri

• Liberty Memorial, Kansas City, MO

Nevada

• Northern Nevada Railway Shops and Yard, Ely, NV

New Mexico

• Ernie Pyle House, Albuquerque, NM

New York

• Green-Wood Cemetery, Brooklyn, NY

Pennsylvania

• Carrie Furnaces No. 6 and 7, Boroughs of Rankin, Munhall, and Swissvale, PA

• Pennsylvania State Capitol Complex, Harrisburg, PA

Wyoming

• Heart Mountain, Ralston, WY

Dated: February 2, 2006.
John W. Roberts,
Acting Chief, National Historic Landmarks Program; National Park Service, Washington, DC.

[FR Doc. E6-1811 Filed 2-9-06; 8:45 am]

BILLING CODE 4312-51-P